DEPARTMENT OF AGRICULTURE

Rural Business-Cooperative Service

Inviting Applications for Rural Business Opportunity Grants

AGENCY: Rural Business-Cooperative Service, USDA.

ACTION: Notice of Funding Availability (NOFA).

SUMMARY: USDA announces the availability of grants through the Rural Business Opportunity Grant Program (RBOG) for Fiscal Year (FY) 2012. Public bodies, nonprofit corporations, institutions of higher education, Indian tribes on Federal or State reservations and other Federally Recognized Native American Tribes or tribal groups, and rural cooperatives may apply. Approximately $2.37 million is available in reserved and unreserved funding and will be distributed as follows: $1,140,610.78 is reserved for projects benefitting Federally Recognized Native American Tribes (Native American) in rural areas and $1,230,020 is unreserved. Applications for unreserved funding are limited to $50,000 or less. Applications for reserved funding have no limit. See 7 CFR Part 4284, subpart G.

DATES: Your application must be received by August 6, 2012, or it will not be considered for funding.

ADDRESSES: You should contact a USDA Rural Development State Office (State Office) if you have questions or need a copy of the application forms. Applications may be submitted in electronic or paper format. If you want to submit an electronic application, follow the instructions for the RBOG funding announcement on www.grants.gov. If you want to submit a paper application, send it to the State Office located in the State where the project is located. In the case of a multi-state project, you must submit your application to the State Office located in the State where the majority of the work will be conducted. A list of State Offices and their contact information follows:

Alabama

USDA Rural Development State Office, Sterling Centre, Suite 601, 4121 Carmichael Road, Montgomery, AL 36106-3683, (334) 279-3400/TDD (334) 279-3495

Alaska

USDA Rural Development State Office, 800 West Evergreen, Suite 201, Palmer, AK 99645-6539, (907) 761-7705/TDD (907) 761-8905

Arizona

USDA Rural Development State Office, 230 N. 1st Ave., Suite 206, Phoenix, AZ 85003, (602) 280-8701/TDD (602) 280-8705

Arkansas

USDA Rural Development State Office, 700 West Capitol Avenue, Room 3416, Little Rock, AR 72201-3225, (501) 301-3200/TDD (501) 301-3279

American Samoa (see Hawaii)

California

USDA Rural Development State Office, 430 G Street, #4169, Davis, CA 95616-4169, (530) 792-5800/TDD (530) 792-5848

Colorado

USDA Rural Development State Office, Denver Federal Center, Building 56, Room 2300, P.O. Box 25426, Denver, CO 80225-0426, (720) 544-2903

Connecticut (see Massachusetts)

Delaware-Maryland

USDA Rural Development State Office, 1221 College Park Drive, Suite 200, Dover, DE 19904, (302) 857-3580/TDD (302) 857-3585

Federated States of Micronesia (see Hawaii)

Florida/Virgin Islands

USDA Rural Development State Office, 4440 NW 25th Place, P.O. Box 147010, Gainesville, FL 32614-7010, (352) 338-3400/TDD (352) 338-3499

Georgia

USDA Rural Development State Office, Stephens Federal Building, 355 E. Hancock Avenue, Athens, GA 30601-2768, (706) 546-2162/TDD (706) 546-2034

Guam (see Hawaii)

Hawaii

USDA Rural Development State Office, Federal Building, Room 311, 154 Waianuenue Avenue, Hilo, HI 96720, (808) 933-8380/TDD (808) 933-8321

Idaho

USDA Rural Development State Office, 9173 West Barnes Drive, Suite A1, Boise, ID 83709, (208) 378-5600/TDD (208) 378-5644

Illinois

USDA Rural Development State Office, 2118 West Park Court, Suite A, Champaign, IL 61821, (217) 403-6200/TDD (217) 403-6240

Indiana

USDA Rural Development State Office, 5975 Lakeside Boulevard, Indianapolis, IN 46278, (317) 290-3100/TDD (317) 290-3343

Iowa

USDA Rural Development State Office, Federal Building, Room 873, 210 Walnut Street, Des Moines, IA 50309, (515) 284-4663/TDD (515) 284-4858

Kansas

USDA Rural Development State Office, 1303 SW. First American Place, Suite 100, Topeka, KS 66604-4040, (785) 271-2700/TDD (785) 271-2767

Kentucky

USDA Rural Development State Office, 771 Corporate Drive, Suite 200, Lexington, KY 40503, (859) 224-7300/TDD (859) 224-7422

Louisiana

USDA Rural Development State Office, 3727 Government Street, Alexandria, LA 71302, (318) 473-7921/TDD (318) 473-7655

Maine

USDA Rural Development State Office, 967 Illinois Avenue, Suite 4, P.O. Box 405, Bangor, ME 04402-0405, (207) 990-9160/TDD (207) 942-7331

Marshall Islands (see Hawaii)

Maryland (see Delaware)

Massachusetts/Rhode Island/Connecticut

USDA Rural Development State Office, 451 West Street, Suite 2, Amherst, MA 01002-2999, (413) 253-4300/TDD (413) 253-4590

Michigan

USDA Rural Development State Office, 3001 Coolidge Road, Suite 200, East Lansing, MI 48823, (517) 324-5190/TDD (517) 324-5169

Minnesota

USDA Rural Development State Office, 375 Jackson Street, Suite 410, St. Paul, MN 55101-1853, (651) 602-7800/TDD (651) 602-3799

Mississippi

USDA Rural Development State Office, Federal Building, Suite 831, 100 West Capitol Street, Jackson, MS 39269, (601) 965-4316/TDD (601) 965-5850

Missouri

USDA Rural Development State Office, 601 Business Loop 70 West, Parkade Center, Suite 235, Columbia, MO 65203, (573) 876-0976/TDD (573) 876-9480

Montana

USDA Rural Development State Office, 2229 Boot Hill Court, Bozeman, MT 59715-7914, (406) 585-2580/TDD (406) 585-2562

Nebraska

USDA Rural Development State Office, Federal Building, Room 152, 100 Centennial Mall North, Lincoln, NE 68508, (402) 437-5551/TDD (402) 437-5093

Nevada

USDA Rural Development State Office, 1390 South Curry Street, Carson City, NV 89703-5146, (775) 887-1222/TDD 7-1-1

New Hampshire (see Vermont)

New Jersey

USDA Rural Development State Office, 8000 Midlantic Drive, 5th Floor North, Suite 500, Mt. Laurel, NJ 08054, (856) 787-7700/TDD (856) 787-7784

New Mexico

USDA Rural Development State Office, 6200 Jefferson Street NE., Room 255, Albuquerque, NM 87109, (505) 761-4950/TDD (505) 761-4938

New York

USDA Rural Development State Office, The Galleries of Syracuse, 441 South Salina Street, Suite 357, Syracuse, NY 13202-2541, (315) 477-6400/TDD (315) 477-6447

North Carolina

USDA Rural Development State Office, 4405 Bland Road, Suite 260, Raleigh, NC 27609, (919) 873-2000/TDD (919) 873-2003

North Dakota

USDA Rural Development State Office, Federal Building, Room 208, 220 East Rosser, P.O. Box 1737, Bismarck, ND 58502-1737, (701) 530-2037/TDD (701) 530-2113

Northern Mariana Islands (see Hawaii)

Ohio

USDA Rural Development State Office, Federal Building, Room 507, 200 North High Street, Columbus, OH 43215-2418, (614) 255-2400/TDD (614) 255-2554

Oklahoma

USDA Rural Development State Office, 100 USDA, Suite 108, Stillwater, OK 74074-2654, (405) 742-1000/TDD (405) 742-1007

Oregon

USDA Rural Development State Office, 1201 NE Lloyd Blvd., Suite 801, Portland, OR 97232, (503) 414-3300/TDD (503) 414-3387

Palau (see Hawaii)

Pennsylvania

USDA Rural Development State Office, One Credit Union Place, Suite 330, Harrisburg, PA 17110-2996, (717) 237-2299/TDD (717) 237-2261

Puerto Rico

USDA Rural Development State Office, IBM Building, Suite 601, 654 Munos Rivera Avenue, San Juan, PR 00918-6106, (787) 766-5095/TDD (787) 766-5332

Rhode Island (see Massachusetts)

South Carolina

USDA Rural Development State Office, Strom Thurmond Federal Building, 1835 Assembly Street, Room 1007, Columbia, SC 29201, (803) 765-5163/TDD (803) 765-5697

South Dakota

USDA Rural Development State Office, Federal Building, Room 210, 200 Fourth Street, SW, Huron, SD 57350, (605) 352-1100/TDD (605) 352-1147

Tennessee

USDA Rural Development State Office, 3322 West End Avenue, Suite 300, Nashville, TN 37203-1084, (615) 783-1300

Texas

USDA Rural Development State Office, Federal Building, Suite 102, 101 South Main, Temple, TX 76501, (254) 742-9700/TDD (254) 742-9712

Utah

USDA Rural Development State Office, Wallace F. Bennett Federal Building, 125 South State Street, Room 4311, Salt Lake City, UT 84138, (801) 524-4321/TDD (801) 524-3309

Vermont/New Hampshire

USDA Rural Development State Office, City Center, 3rd Floor, 89 Main Street, Montpelier, VT 05602, (802) 828-6080/TDD (802) 223-6365

Virgin Islands (see Florida)

Virginia

USDA Rural Development State Office, 1606 Santa Rosa Road, Suite 238, Richmond, VA 23229-5014, (804) 287-1550/TDD (804) 287-1753

Washington

USDA Rural Development State Office, 1835 Black Lake Boulevard SW., Suite B, Olympia, WA 98512-5715, (360) 704-7740/TDD (360) 704-7760

West Virginia

USDA Rural Development State Office, 75 High Street, Room 320, Morgantown, WV 26505-7500, (304) 284-4860/TDD (304) 284-4836

Western Pacific (see Hawaii)

Wisconsin

USDA Rural Development State Office, 4949 Kirschling Court, Stevens Point, WI 54481, (715) 345-7600/TDD (715) 345-7614

Wyoming

USDA Rural Development State Office, 100 East B, Federal Building, Room 1005, P.O. Box 11005, Casper, WY 82602-5006, (307) 233-6700/TDD (307) 233-6733

FOR FURTHER INFORMATION CONTACT: Office of the Deputy Administrator, Cooperative Programs, Rural Business-Cooperative Service, United States Department of Agriculture, 1400 Independence Avenue SW., MS-3250, Room 4016-South, Washington, DC 20250-3250, (202) 720-7558.

SUPPLEMENTARY INFORMATION:

Overview

Federal Agency: Rural Business-Cooperative Service (RBS).

Funding Opportunity Type: Rural Business Opportunity Grants.

Announcement Type: Funding Announcement.

Catalog of Federal Domestic Assistance Number: 10.773.

Dates: Application Deadline: You must submit your application by August 6, 2012, to be eligible for FY 2012 grant funding. Applications submitted after the deadline date will not be eligible for FY 2012 grant funding.

I. Funding Opportunity Description

The RBOG program is authorized under section 306(a)(11) of the Consolidated Farm and Rural Development Act (CONACT) (7 U.S.C. 1926(a)(11)).

The primary objective of the program is to improve the economic conditions of rural areas. Assistance provided to rural areas under this program includes the following:

• Rural business incubators

• Technology-based economic development

• Feasibility studies and business plans

• Long-term business strategic planning

• Leadership and entrepreneur training

In addition, we are encouraging applications that will support regional economic development.

Definitions

The terms you need to know are published at 7 CFR 4284.3 and 4284.603.

II. Award Information

Type of Award: Grant.

Fiscal Year Funds: FY 2012.

Total Funding: $2.37 million distributed as follows: $1,140,610.78 is reserved for projects benefitting Native Americans in rural areas and $1,230,020 is unreserved.

Maximum Award: $50,000 for unreserved funds; no maximum for Native American reserved funds.

Anticipated Award Date: September 30, 2012.

III. Eligibility Information

A. Eligible Applicants

Grants may be made to public bodies, nonprofit corporations, institutions of higher education, Indian tribes on Federal or State reservations and other Federally recognized tribal groups, and cooperatives with members that are primarily rural residents.

An applicant must obtain a Dun and Bradstreet Data Universal Numbering System (DUNS) number (see Section IV.B.) and register in the Central Contractor Registry (CCR) prior to submitting an application. (See 2 CFR 25.200(b).) In addition, an applicant must maintain its registration in the CCR database during the time its application is active. Finally, an applicant must have the necessary processes and systems in place to comply with the reporting requirements in 2 CFR 170.200(b), as long as it is not exempted from reporting. Exemptions are identified at 2 CFR 170.110(b).

For additional information on applicant eligibility, see 7 CFR 4284.620.

B. Cost Sharing or Matching

Matching funds are not required.

C. Other Eligibility Requirements

Your application must propose to use project funds, including grant and other contributions committed under the evaluation criterion located at 7 CFR 4284.639(c), for eligible purposes (see 7 CFR 4284.621). Also, the proposed project must benefit a rural area; thus, all ultimate recipients of services provided through the project must either reside in a rural area (if an individual) or be located in a rural area (if a business).

Project funds cannot be used for construction, planning a facility, engineering work, or revolving loan funds. See 7 CFR 4284.10 and 4284.629 for more information on ineligible uses of funds. However, if you include funds in your budget that are for ineligible purposes, we will consider your application for funding if the ineligible purposes total 10 percent or less of your total project budget. However, if your application is successful, those ineligible costs must be removed before we will make the grant award. If we cannot determine the percentage of ineligible costs, your application will not be considered for funding.

Additionally, awards made under this announcement are subject to the provisions contained in the Agriculture, Rural Development, Food and Drug Administration, and Related Agencies Appropriations Act, 2012, Public Law 112-55, Division A, Sections 738 and 739 regarding corporate felony convictions and corporate federal tax delinquencies. You must provide representation as to whether your organization or any officers or agents of your organization has or has not been convicted of a felony criminal violation under Federal or State law in the 24 months preceding the date of application. In addition, you must provide representation as to whether your organization has or does not have any unpaid Federal tax liability that has been assessed, for which all judicial and administrative remedies have been exhausted or have lapsed, and that is not being paid in a timely manner pursuant to an agreement with the authority responsible for collecting the tax liability. To comply with these provisions, you must include the following in your application. All applicants must complete the paragraph (1) of this representation, and all corporate applicants also must complete paragraphs (2) and (3) of this representation.

(1) [INSERT NAME OF APPLICANT] is _ is not ___ (check one) an entity that has filed articles of incorporation in one of the fifty states, the District of Columbia, or the various territories of the United States including American Samoa, Federated States of Micronesia, Guam, Midway Islands, Northern Mariana Islands, Puerto Rico, Republic of Palau, Republic of the Marshall Islands, U.S. Virgin Islands. (Note that this includes both for-profit and non-profit organizations.)

If you checked “is” above, you must complete paragraphs (2) and (3) of the representation. If you checked “is not” above, you may leave the remainder of the representation blank.

(2) [INSERT NAME OF APPLICANT] has _ has not ___ (check one) been convicted of a felony criminal violation under Federal or State law in the 24 months preceding the date of application. [INSERT NAME OF APPLICANT] has _ has not ___ (check one) had any officer or agent convicted of a felony criminal violation for actions taken on behalf of [INSERT NAME OF APPLICANT] under Federal or State law in the 24 months preceding the date of signature.

(3) [INSERT NAME OF APPLICANT] has _ does not have ___ (check one) any unpaid Federal tax liability that has been assessed, for which all judicial and administrative remedies have been exhausted or have lapsed, and that is not being paid in a timely manner pursuant to an agreement with the authority responsible for collecting the tax liability.

Finally, if you have an existing RBOG award, you must be performing satisfactorily to be considered eligible for a new award. Satisfactory performance includes, but is not limited to, being up-to-date on all financial and performance reports and being current on all tasks as approved in the work plan.

D. Completeness Eligibility

Your application will not be considered for funding if it does not provide sufficient information to determine eligibility or is missing required elements. In particular, you must include a project budget that identifies each task to be performed, along with the time period of performance for each task, and the amounts of grant funds and other contributions needed for each task. For more information on what is required for an application, see 7 CFR 4284.638.

IV. Fiscal Year 2012 Application and Submission Information

A. Address To Request Application Package

For further information, you should contact the USDA Rural Development State Office identified in the ADDRESSES section of this Notice to obtain copies of the application package.

B. Content and Form of Submission

Your application must contain all of the required elements described at 7 CFR 4284.638. You may submit your application in paper form or electronically. If you submit in paper form, any forms requiring signatures must include an original signature.

To submit an application electronically, you must use the Grants.gov Web site at: http://www.grants.gov. You may not submit an application electronically in any way other than through Grants.gov.

• When you enter the Grants.gov Web site, you will find information about submitting an application electronically through the site, as well as the hours of operation.

• To use Grants.gov, you must have a Dun and Bradstreet Data Universal Numbering System (DUNS) number, which can be obtained at no cost via a toll-free request line at (866) 705-5711. We strongly recommend that you do not wait until the application deadline date to begin the application process through Grants.gov.

• Before submitting an application you must be registered and maintain registration in the Central Contractor Registration (CCR) database. (See 2 CFR Part 215.) You may register for the CCR at https://www.uscontractorregistration.com/, or by calling (877) 252-2700.

• You must submit all of your application documents electronically through Grants.gov.

• After electronically submitting an application through Grants.gov, you will receive an automatic acknowledgement from Grants.gov that contains a Grants.gov tracking number.

• You may be required to provide original signatures on forms at a later date.

• You can locate the Grants.gov downloadable application package for this program by using a keyword, the program name, the Catalog of Federal Domestic Assistance Number, or the Funding Opportunity Number.

C. Submission Date and Time

Application Deadline date: August 6, 2012.

Explanation of Deadlines: Complete paper applications must be in the USDA Rural Development State Office by the deadline date, 4 p.m. local time. Electronic applications submitted through Grants.gov will be accepted by the system through midnight eastern time on the deadline date.

V. Application Review Information

We will review each application to determine if it is eligible for assistance based on the requirements in 7 CFR part 4284, subpart G as well as other applicable Federal regulations. Eligible applications will be tentatively scored by the USDA Rural Development State Offices and submitted to the National Office for final review and selection.

You must address each selection criterion outlined in 7 CFR 4284.639 in your application. Any criterion not substantively addressed will receive zero points.

To assist you with addressing each criterion, we are providing what we consider to be necessary documentation as well as how we will score each criterion below.

1. Sustainability of Economic Development (7 CFR 4284.639(a)). You must identify the economic development (see 7 CFR 4284.603 for a definition) that will occur as a result of your project and describe how that development will be sustainable without any assistance from governments (including local, State, and Federal) or other organizations outside the community. Sustainability may include, but is not limited to, user fees or a continuing source of funds from a community organization. We will score the criterion as follows:

• 0 points if you do not identify at least one type of economic development.

• 1-2 points if you identify at least one type of economic development, but are unable to reasonably quantify it or demonstrate sustainability.

• 3-4 points if you identify at least one type of economic development and reasonably quantify it.

• 5-6 points if you identify at least one type of economic development, reasonably quantify it, and demonstrate that it can be sustained for at least 1 year after the completion of the project through user fees, community organization support, or other non-governmental methods.

• 7-8 points if you identify at least one type of economic development, reasonably quantify it, and demonstrate that it can be sustained for at least 3 years after the completion of the project through user fees, community organization support, or other non-governmental methods.

• 9-10 points if you identify at least one type of economic development, reasonably quantify it, and demonstrate that it can be sustained for at least 5 years after the completion of the project through user fees, community organization support, or other non-governmental methods.

2. Improvements in the Quality of Economic Activity (7 CFR 4284.639(b)). You must quantitatively describe how your project will improve the economic activity in your service area through higher wages, improved benefits, greater career potential, and/or the use of higher level skills than are currently typical. We will score the criterion as follows:

• 0 points if you do not quantitatively describe at least one way your project will improve the economic activity in your service area.

• 1-2 points if you quantitatively describe one way your project will improve the economic activity in your service area.

• 3-4 points if you quantitatively describe two ways your project will improve the economic activity in your service area.

• 5-6 points if you quantitatively describe three ways your project will improve the economic activity in your service area.

• 7-8 points if you quantitatively describe four ways your project will improve the economic activity in your service area.

• 9-10 points if you quantitatively describe five or more ways your project will improve the economic activity in your service area.

3. Other Contributions (7 CFR 4284.639(c)). You must provide documentation indicating who will be providing the other source of funds, the amount of funds, when those funds will be provided, and how the funds will be used in the project budget. Examples of acceptable documentation include: a signed letter from the source of funds stating the amount of funds, when the funds will be provided, and what the funds can be used for or a signed resolution from your governing board authorizing the use of a specified amount of funds for specific components of the project. The other contributions you identify must be specifically dedicated to the project and cannot include your organization's general operating budget. No credit will be given for in-kind donations of time, goods, and/or services from any organization, including the applicant organization. We will score the criterion as follows:

• 0 points if your other contributions total 25 percent or less of the total project cost.

• 10 points if your other contributions are greater than 25 and 50 percent of the total project cost.

• 20 points if your other contributions are more than 50 percent and less than or equal to 80 percent of the total project cost.

• 30 points if your other contributions are more than 80 percent of the total project cost.

4. Major Natural Disaster (7 CFR 4284.639(d)(1)). You must provide a Federal Emergency Management Agency (FEMA) disaster reference number for any disasters that occurred within 3 years of the application deadline in the counties in the project service area. We will award 15 points if a FEMA disaster reference number is provided for the majority of the counties in your service area; otherwise we will award 0 points.

5. Fundamental Structural Change (7 CFR 4284.639(d)(2)). You must describe a structural change (for example, the loss of major employer or closing of a military base) that occurred within or affected one or more of the counties in the project service area. The structural change must have occurred within the 3 years prior to submitting your application. We will award 15 points if the structural change affected the majority of the counties in your service area and if it caused the loss of at least 100 jobs; otherwise we will award 0 points.

6. Long-Term Poverty (7 CFR 4284.639(d)(3)). You must provide the percentage of residents living below the poverty level from the 1990 and the 2010 decennial censuses for all counties and all States in the service area. We will award 10 points if the majority of counties in the service area have a percentage of residents living below that poverty level that is above the state percentage in both the 1990 and the 2010 censuses; otherwise we will award 0 points.

7. Long-Term Population Decline (7 CFR 4284.639(d)(4)). You must provide population statistics from the 1990 and the 2010 decennial censuses for all counties in the service area. We will award 10 points if the majority of the counties in the service area experienced a net loss of population between 1990 and 2010; otherwise we will award 0 points.

8. Long-Term Job Deterioration (7 CFR 4284.639(d)(5)). You must provide the unemployment rate from the 1990 and 2010 decennial censuses for all counties in the service area. We will award 10 points if the majority of counties in the service area experienced an increase in the unemployment rate between 1990 and 2010; otherwise we will award 0 points.

9. Best Practices (7 CFR 4284.639(e)). You must describe how your project could be replicated, including any potentially necessary modifications, in other communities or service areas. We will score the criterion as follows:

• 0 points if your project could not be replicated.

• 1-3 points if your project could be replicated in another community, but with substantial modifications.

• 4-6 points if your project could be replicated in another community, but with moderate modifications.

• 7-10 points if your project could be replicated in another community, with minimal modifications.

10. Discretionary Points (7 CFR 4284.639(f)). If you wish to be considered for discretionary points, your application must include a description of the following:

• The project service area, and/or

• The special importance for implementation of a regional strategic plan in partnership with other organizations, and/or

• The extraordinary potential for success of the project due to superior project plans or qualifications of your organization, including the key personnel for the project.

Because awarding these points is completely at the option of the State Director or the Administrator, no additional point break down can be provided.

The National Office will review the scores based on the grant selection criteria and weights contained in 7 CFR 4284.639 and this Notice. Applications will be funded in rank order.

VI. Award Administration Information

A. Award Notices

If your application is successful, you will receive notification regarding funding from the Rural Development State Office where the application was submitted. You must comply with all applicable statutes and regulations before the grant award will be approved. If your application is not successful, you will receive notification, including mediation procedures and appeal rights, by mail.

All adverse determinations regarding applicant eligibility and the awarding of points as part of the selection process are appealable (see 7 CFR part 11). Instructions on the appeal process will be provided at the time an applicant is notified of the adverse decision.

B. Administrative and National Policy Requirements

Additional requirements that apply to grantees selected for this program can be found in 7 CFR part 4284, subparts A and G, parts 3015, 3016, 3019, 3052, and 2 CFR parts 215 and 417. All recipients of Federal financial assistance are required to comply with the Federal Funding Accountability and Transparency Act of 2006 and must report information about subawards and executive compensation (see 2 CFR part 170). These recipients must also maintain their registration in the CCR database as long as their grants are active. These regulations may be obtained at http://www.gpoaccess.gov/cfr/index.html.

The following additional requirements apply to grantees selected for this program:

• Agency-approved Grant Agreement.

• Letter of Conditions.

• Form RD 1940-1, “Request for Obligation of Funds.”

• Form RD 1942-46, “Letter of Intent To Meet Conditions.”

• Form AD-1047, “Certification Regarding Debarment, Suspension, and Other Responsibility Matters—Primary Covered Transactions.”

• Form AD-1048, “Certification Regarding Debarment, Suspension, Ineligibility and Voluntary Exclusion-Lower Tier Covered Transactions.”

• Form AD-1049, “Certification Regarding a Drug-Free Workplace Requirement (Grants).”

• Form RD 400-4, “Assurance Agreement.”

VII. Agency Contacts

If you have questions about this Notice, please contact the USDA Rural Development State Office located in your State as identified in the ADDRESSES section of this notice.

VIII. Nondiscrimination Statement

USDA prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD).

To file a complaint of discrimination, write to USDA, Director, Office of Adjudication and Compliance, 1400 Independence Avenue SW., Washington, DC 20250-9410 or call (800) 795-3272 (voice) or (202) 720-6382 (TDD). USDA is an equal opportunity provider and employer.

Dated: May 21, 2012.
John Padalino,
Acting Administrator, Rural Business-Cooperative Service.

[FR Doc. 2012-13835 Filed 6-6-12; 8:45 am]

BILLING CODE 3410-XY-P